NUCLEAR REGULATORY COMMISSION

[Docket Nos. 50-003, 50-247, 50-286, and 72-051; NRC-2021-0125]

Holtec Decommissioning International, LLC; Indian Point Nuclear Generating, Unit Nos. 1, 2, and 3; Post-Shutdown Decommissioning Activities Report

AGENCY: Nuclear Regulatory Commission.

ACTION: Public meeting and request for comment.

SUMMARY: On June 24, 2021, the U.S. Nuclear Regulatory Commission (NRC) noticed receipt of, and solicited public comments on, the post-shutdown decommissioning activities report (PSDAR) for the Indian Point Nuclear Generating, Unit Nos. 1, 2, and 3 (Indian Point Energy Center (IPEC)), submitted by Holtec Decommissioning International, LLC (HDI). The PSDAR, which includes the site-specific decommissioning cost estimate (DCE), provides an overview of HDI's planned activities, schedule, projected costs, and environmental impacts for the decommissioning of the IPEC. The NRC will hold a public meeting to discuss the PSDAR and DCE and to receive comments.

DATES: The public meeting will be held on Thursday, July 29, 2021, from 6:00 p.m. until 9:00 p.m. (ET), at the Sleepy Hollow Hotel and Conference Center (previously the DoubleTree Hotel), located at 455 South Broadway, in Tarrytown, NY. Submit comments by October 22, 2021. Comments received after this date will be considered, if it is practical to do so, but the NRC is able to ensure consideration only for comments received on or before this date.

ADDRESSES: You may submit comments by any of the following methods; however, the NRC encourages electronic comment submission through the Federal Rulemaking website:

• Federal Rulemaking Website: Go to https://www.regulations.gov and search for Docket ID NRC-2021-0125. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Richard V. Guzman, Office of Nuclear Reactor Regulation, U.S. Nuclear Regulatory Commission, Washington, DC 20555-0001, telephone: 301-415-1030; email: Richard.Guzman@nrc.gov.

SUPPLEMENTARY INFORMATION:

I. Obtaining Information and Submitting Comments

A. Obtaining Information

Please refer to Docket ID NRC-2021-0125 when contacting the NRC about the availability of information for this action. You may obtain publicly available information related to this action by any of the following methods:

• Federal Rulemaking Website: Go to https://www.regulations.gov and search for Docket ID NRC-2021-0125.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The IPEC PSDAR is available in ADAMS under Accession No. ML19354A698.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

B. Submitting Comments

The NRC encourages electronic comment submission through the Federal Rulemaking website (https://www.regulations.gov). Please include Docket ID NRC-2021-0125 in your comment submission.

The NRC cautions you not to include identifying or contact information that you do not want to be publicly disclosed in your comment submission. The NRC will post all comment submissions at https://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

HDI has the authority to conduct licensed activities under Provisional License No. DPR-5, Renewed Facility License No. DPR-26, and Renewed Facility License No. DPR-64 for the IPEC, and the general license for the IPEC independent spent fuel storage installation (ISFSI). These licenses provide, among other things, that the respective facilities are subject to all rules, regulations, and orders of the NRC now or hereafter in effect. The facilities consist of three pressurized-water reactors located in Buchanan, New York, in Westchester County, all of which are permanently shutdown, and the ISFSI.

On December 19, 2019, HDI submitted to the NRC the PSDAR for the IPEC, contingent upon the transfer of the IPEC licenses to HDI (ADAMS Accession No. ML19354A698). Paragraph 50.82(a)(4)(i) of title 10 of the Code of Federal Regulations (10 CFR) states that a PSDAR must contain a description of the planned decommissioning activities along with a schedule for their accomplishment, a discussion that provides the reasons for concluding that the environmental impacts associated with site-specific decommissioning activities will be bounded by appropriate previously issued environmental impact statements, and a site-specific DCE, including the projected cost of managing irradiated fuel. The IPEC license transfer transaction closed on May 28, 2021. Accordingly, pursuant to 10 CFR 50.82(a)(4)(ii), the NRC noticed receipt of the PSDAR, including the DCE, for IPEC and made it available for public comment on June 24, 2021 (86 FR 33383).

III. Request for Comment and Public Meeting

The NRC will hold a public meeting to discuss the PSDAR and receive comments on Thursday, July 29, 2021, from 6:00 p.m. until 9:00 p.m. (ET), at the Sleepy Hollow Hotel and Conference Center (previously the DoubleTree Hotel), located at 455 South Broadway, in Tarrytown, NY. The NRC requests that comments that are not provided during the meeting be submitted in writing, as noted in section I, “Obtaining Information and Submitting Comments,” of this document, by October 22, 2021.

Dated: July 12, 2021.
For the Nuclear Regulatory Commission.
James G. Danna,
Chief, Plant Licensing Branch I, Division of Operating Reactor Licensing, Office of Nuclear Reactor Regulation.

[FR Doc. 2021-15068 Filed 7-14-21; 8:45 am]

BILLING CODE 7590-01-P